DEPARTMENT OF COMMERCE

National Oceanic and Atmospheric Administration

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Advisory Subpanel (HMSAS) and Highly Migratory Species Management Team (HMSMT) will hold a joint meeting by webinar, which is open to the public.

DATES: The HMSAS and HMSMT will meet by webinar on Thursday, May 12, 2016, from 1:30 to 3:30 p.m. Pacific Time, or when business for the day is complete.

ADDRESSES: To attend the HMSMT/HMSAS webinar visit this link: http://www.gotomeeting.com/online/webinar/join-webinar. Enter the Webinar ID: 109-140-403. Please enter your name and email address (required). After logging into the webinar, dial this TOLL number +1 (213) 929-4212 (not a toll-free number), enter the attendee phone audio access code 300-135-098, then enter your audio phone PIN (shown after joining the webinar). Participants are encouraged to use their telephone, as this is the best practice to avoid technical issues and excessive feedback. If you do not select “Use Telephone” after joining the webinar you will be connected to audio using your computer's microphone and speakers (VolP). You may send an email to Mr. Kris Kleinschmidt (kris.kleinschmidt@noaa.gov) or contact him at (503) 820-2280, extension 425 for technical assistance. A listening station will also be provided at the Pacific Council office.

Council address: Pacific Council, 7700 NE Ambassador Place, Suite 101, Portland, OR 97220-1384.

FOR FURTHER INFORMATION CONTACT: Kit Dahl, Pacific Council, 503-820-2422.

SUPPLEMENTARY INFORMATION: The HMSMT and HMSAS will provide advice to Pacific Council-sponsored attendees to the Second North Pacific Albacore Management Strategy Evaluation Workshop sponsored by the International Scientific Committee for Tuna and Tuna-Like Species in the North Pacific Ocean (ISC). The workshop will be held May 24-25, 2016, in Yokohama, Japan. In January 2016, the Secretariat of the Western and Central Pacific Fisheries Commission (WCPFC) circulated a list of management objectives and related questions compiled by Dr. John Holmes, Chair of the ISC's Albacore Working Group based on input from members of the WCPFC's Northern Committee. (This document may be accessed at http://www.pcouncil.org/wp-content/uploads/2016/02/F4_Att2_NorthernCommMgmtObjectives_MAR2016BB.pdf.) The HMSAS and HMSMT will use this document as a reference for providing advice to the workshop attendees.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Technical Information and System Requirements

PC-based attendees: Windows® 7, Vista, or XP operating system required. Mac®-based attendees: Mac OS® X 10.5 or newer required. Mobile attendees: iPhone®, iPad®, Android™ phone or Android tablet required (use GoToMeeting Webinar Apps).

Special Accommodations

The meeting is physically accessible to people with disabilities. Requests for sign language interpretation or other auxiliary aids should be directed to Mr. Kris Kleinschmidt at (503) 820-2280 at least 5 days prior to the meeting date.

Dated: April 19, 2016.
Tracey L. Thompson,
Acting Deputy Director, Office of Sustainable Fisheries, National Marine Fisheries Service.

[FR Doc. 2016-09427 Filed 4-21-16; 8:45 am]

BILLING CODE 3510-22-P